DEPARTMENT OF HOUSING AND URBAN DEVELOPMENT

[Docket No. FR-4800-FA-27]

Announcement of Funding Award—FY 2003; Lead Outreach Grant Programs.

AGENCY: Office of the Secretary—Office of Healthy Homes and Lead Hazard Control Grant Programs.

ACTION: Announcement of funding awards.

SUMMARY: In accordance with section 102(a)(4)(C) of the Department of Housing and Urban Development Reform Act of 1989, this announcement notifies the public of additional funding decisions made by the Department in a competition for funding under the Lead Outreach Grant Program Notice of Funding Availability (NOFA). This announcement co ntains the name and address of the award recipient and the amount of award.

FOR FURTHER INFORMATION CONTACT: Warren Friedman, Department of Housing and Urban Development, Office of Healthy Homes Initiative and Lead Hazard Control, Room P3206, 451 Seventh Street, SW., Washington, DC, 20410, telephone (202) 755-1785, ext. 159. Hearing- and speech-impaired persons may access the number above via TTY by calling the toll free Federal Information Relay Service at 1-800-877-8339.

SUPPLEMENTARY INFORMATION: The authority for making funding available under the Lead Outreach Grant Program is section 1011(e)(8) & (g)(1) of the Residential Lead-Based Paint Hazard Reduction Act of 1992 (Title X of the Housing and Community Development Act of 1992), and Division K of the Consolidated Appropriations Resolution of 2003, Public Law 108-7, signed February 20, 2003. These awards were the result of a competition announced in a Federal Register NOFA published on April 25, 2003 (68 FR 21399). The purpose of the competition was to award grant funding of approximately $2,200,000 for grants and cooperative agreements for the Healthy Homes Lead Outreach Grants Programs. Applications were scored and selected on the basis of selection criteria contained in that NOFA.

A total of $2,402,972 was awarded to six grantees. In accordance with section 102(a)(4)(C) of the Department of Housing and Urban Development Reform Act of 1989 (103 Stat. 1987, 42 U.S.C. 3545), the Department is publishing the names, addresses, and amounts of this awards as follows:

Awardee | Address | Award amount
City of New York | 100 Gold Street, New York, NY 10038 | $500,000
City of Kansas City | 2400 Troost Ave., Suite 4000, Kansas City, MO 64108 | 250,000
City of Charlotte | 600 East Trade Street, Charlotte, NC 28202 | 288,457
City of Minneapolis | 250 South 4th Street Room 510, Minneapolis, MN 55415 | 370,824
City of Los Angeles | 1200 West 7th St., 9th Floor, Los Angeles, CA 90017 | 514,764
City of San Diego | 9601 Ridgehaven Court, Suite 320, Diego San Diego, CA 92123-1636 | 478,927

The Catalog of Federal Domestic Assistance number for this program is 14.904.
Dated: November 4, 2003.
Joseph F. Smith,
Deputy Director, Office of Healthy Homes and Lead Hazard Control.

[FR Doc. 03-29331 Filed 11-24-03; 8:45 am]

BILLING CODE 4210-70-P